SUSQUEHANNA RIVER BASIN COMMISSION

Commission Meeting

AGENCY: Susquehanna River Basin Commission.

ACTION: Notice.

SUMMARY: The Susquehanna River Basin Commission will hold its regular business meeting on June 7, 2012, in Binghamton, New York. Details concerning the matters to be addressed at the business meeting are contained in the Supplementary Information section of this notice.

DATES: June 7, 2012, at 9:00 a.m.

ADDRESSES: Binghamton State Office Building, Warren Anderson Community Room (18th Floor), 44 Hawley Street, Binghamton, N.Y. 13901.

FOR FURTHER INFORMATION CONTACT: Richard A. Cairo, General Counsel, telephone: (717) 238-0423, ext. 306; fax: (717) 238-2436.

Opportunity To Appear and Comment

Interested parties are invited to attend the business meeting and encouraged to review the Commission's Public Meeting Rules of Conduct, which are posted on the Commission's Web site, www.srbc.net. As identified in the public hearing notice referenced below, written comments on the Regulatory Program projects, amendment to its Regulatory Program Fee Schedule, amendment to its Records Processing Fee Schedule, and amendment to the Comprehensive Plan for the Water Resources of the Susquehanna River Basin that were the subject of the public hearing, and are listed for action at the business meeting, are subject to a comment deadline of May 21, 2012. Written comments pertaining to any other matters listed for action at the business meeting may be mailed to the Susquehanna River Basin Commission, 1721 North Front Street, Harrisburg, Pennsylvania 17102-2391, or submitted electronically through http://www.srbc.net/pubinfo/publicparticipation.htm. Any such comments mailed or electronically submitted must be received by the Commission on or before June 1, 2012, to be considered.

SUPPLEMENTARY INFORMATION: The business meeting will include actions on the following items: (1) Election of officers for FY-2013; (2) update on the Low Flow Protection Policy; (3) the proposed Water Resources Program; (4) amendment to its Records Processing Fee Schedule; (5) amendments to its Regulatory Program Fee Schedule; (6) authorization to refinance the Curwensville Water Storage Project; (7) adoption of a FY-2014 budget; (8) amendment of the Comprehensive Plan for the Water Resources of the Susquehanna River Basin; (9) a request for administrative appeal from Anadarko E&P Company LP—Well PW-11 (Council Run)—Pending No. 2011-021; and (10) Regulatory Program projects. Projects, proposed fee schedules, and amendment to the comprehensive plan listed for Commission action are those that were the subject of a public hearing conducted by the Commission on May 10, 2012, and identified in the notice for such hearing, which was published in 77 FR 23319, April 18, 2012.

Authority: Pub. L. 91-575, 84 Stat. 1509 et seq., 18 CFR parts 806, 807, and 808.

Dated: May 3, 2012.
Thomas W. Beauduy,
Deputy Executive Director.

[FR Doc. 2012-11479 Filed 5-11-12; 8:45 am]

BILLING CODE 7040-01-P